DEPARTMENT OF HOUSING AND URBAN DEVELOPMENT

[Docket No. FR-7041-N-03]

60-Day Notice of Proposed Information Collection: Evaluation of the HUD-DOJ Pay for Success Permanent Supportive Housing Demonstration; OMB Control No.: 2528-0319

AGENCY: Office of the Assistant Secretary for Policy Development and Research, HUD.

ACTION: Notice.

SUMMARY: The Department of Housing and Urban Development (HUD) is seeking approval from the Office of Management and Budget (OMB) for the information collection described below. In accordance with the Paperwork Reduction Act, HUD is requesting comments from all interested parties on the proposed collection of information. The purpose of this notice is to allow for 60 days of public comment.

DATES: Comments Due Date: March 26, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone (202) 402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone (202) 402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Evaluation of the HUD-DOJ Pay for Success Permanent Supportive Housing Demonstration.

OMB Approval Number: 2528-0319.

Type of Request: Revision or extension of currently approved collection.

Form Number: N/A.

Description of the need for the information and proposed use: The Departments of Housing and Urban Development (HUD) and Justice (DOJ) entered into an interagency collaboration that combines DOJ's mission to promote safer communities by focusing on the reentry population with HUD's mission to end chronic homelessness. This collaboration resulted in the HUD-DOJ Pay for Success Permanent Supportive Housing Demonstration with $8.68M awarded to seven communities to develop supportive housing for persons cycling between the jail or prison systems and the homeless service systems using pay for success (PFS) as a funding mechanism. HUD announced seven grantees from across the country in June 2016. As of August 2020, six grantee communities remain. The PFS Demonstration grant supports activities throughout the PFS lifecycle, including feasibility analysis, transaction structuring, and outcome evaluation and success payments, with each grantee receiving funds for different stages in the PFS lifecycle. Through the national evaluation, which is funded through an interagency agreement between HUD and DOJ and managed by HUD's Office of Policy Development and Research, HUD-DOJ seek to assess whether PFS is a viable model for scaling supportive housing to improve outcomes for a re-entry population. The main goal of the evaluation is to learn how the PFS model is implemented in diverse settings with different structures, populations, and community contexts. The Urban Institute has been conducting a multi-disciplinary, multi-method approach to “learn as we do” and meet the key objectives of the formative evaluation. To understand project implementation, the evaluation includes data collection on both the time that project partners dedicate to each PFS project as well as PFS partner perceptions and interactions and community-level changes that may benefit the target population. This information collection request is for an ongoing time survey and an annual partnership web survey. The time survey will be used to assess staff time spent on development of each PFS project throughout the different lifecycle phases and the partnership survey will be used to document partner perceptions and interactions and community-level changes that may benefit the target population.

Respondents: PFS grantee staff and other project stakeholders.

Estimated Number of Respondents: The annual web-based partnership survey will have up to 170 respondents across all 6 Demonstration sites. The quarterly web-based time survey will have up to 40 respondents across all sites.

Estimated Time per Response: The response time for the annual web-based partnership survey is .25 hour. The response time for the quarterly web-based time survey is 1 hour.

Frequency of Response: The annual web-based partnership survey will be administered once annually. The web-based time survey will be administered four times annually.

Estimated Total Annual Burden Hours: The total annual burden for this information collection is 202.50 hrs.

Estimated Total Annual Cost: The total annual cost for this information collection is $5,400.68.

Respondent's Obligation: Voluntary.

Legal Authority: The data collection is conducted under Title 12, United States Code, Section 1701z and Section 3507 of the Paperwork Reduction Act of 1995, 44, U.S.C., 35, as amended.

Information collection | Number of respondents | Frequency of response | Burden hour per response | Annual burden hours | Hourly cost per response | Total cost
HUD-DOJ PFS Key Project Partners (Annual web-based partnership survey) | 170 | 1 | 0.25 | 42.5 | ¹ $26.67 | $1,133.48
HUD-DOJ PFS Key Project Partners (Quarterly time survey) | 40 | 4 | 1.0 | 160 | 26.67 | 4,267.20
Total | 210 |  |  | 202.5 |  | 5,400.68
¹ The typical key project partner role is either a management or support role. The estimate uses the average of the most recent (May 2019) Bureau of Labor Statistics, Occupational Employment Statistics median hourly wages for the labor categories Social and Community Services Manager (11-9151) and Community and Social Service Specialist, All Other (21-1099). To estimate cost burden to project partner respondents, we use an average of the occupations listed or $26.67.

Respondent | Occupation | SOC code | Median hourly wage rate | Average (median) hourly wage rate
HUD-DOJ PFS Key Project Partners | (1) Social and Community Services Manager (2) Community and Social Service Specialist, All Other | (1) 11-9151 (2) 21-1099 | (1) $32.28 (2) 21.05 | 26.67
Source: Occupational Employment Statistics, accessed online January 11, 2021 at http://www.bls.gov/oes/current/oes_stru.htm.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses. HUD encourages interested parties to submit comment in response to these questions.

C. Authority

Section 3507 of the Paperwork Reduction Act of 1995, 44 U.S.C. Chapter 35.

The General Deputy Assistant Secretary for Policy Development and Research, Todd Richardson, having reviewed and approved this document, is delegating the authority to electronically sign this document to submitter, Nacheshia Foxx, who is the Federal Register Liaison for HUD, for purposes of publication in the Federal Register.

Nacheshia Foxx,
Federal Register Liaison, Department of Housing and Urban Development.

[FR Doc. 2021-01463 Filed 1-22-21; 8:45 am]

BILLING CODE 4210-67-P